DEPARTMENT OF VETERANS AFFAIRS

Veterans' Advisory Committee on Education; Notice of Meeting

The Department of Veterans Affairs (VA) gives notice under the Federal Advisory Committee Act, 5 U.S.C. App. 2, that the Veterans' Advisory Committee on Education will meet on October 21-22, 2015 at the American Council on Education (ACE) located at One Dupont Circle, Washington, DC 20004. On October 21, the meeting will be held in Conference Rooms A&B located on floor 1B. On October 22, the meeting will be held in the Kellogg Room on the 8th floor. The meeting session begins at 8:00 a.m. and ends at 5:00 p.m. on both days. The meeting is open to the public.

The purpose of the Committee is to advise the Secretary of Veterans Affairs on the administration of education and training programs for Veterans, Servicepersons, Reservists, and Dependents of Veterans under Chapters 30, 32, 33, 35, and 36 of title 38, and Chapter 1606 of title 10, United States Code.

The purpose of the meeting is to assist in the evaluation of existing GI Bill programs and services, review recent legislative and administrative changes to GI Bill benefits, and submit their recommendations to the Secretary.

On October 21st, the Committee will receive presentations about the administration of VA's education and training programs. Oral statements will be heard from 3:45 p.m. to 4:30 p.m.

On October 22nd, the Committee will review and summarize issues raised throughout the meeting and discuss Committee work groups and next steps.

The public may submit written statements for the Committee's review to Mr. Barrett Y. Bogue, Designated Federal Officer, Department of Veterans Affairs, Veterans Benefits Administration (223D), 810 Vermont Avenue NW., Washington, DC 20420 or via email at Barrett.Bogue@va.gov. Any member of the public wishing to attend the meeting or seeking additional information should contact Mr. Bogue at (202) 461-9800.

Dated: September 16, 2015.
Rebecca Schiller,
Federal Advisory Committee Management Officer.

[FR Doc. 2015-23628 Filed 9-18-15; 8:45 am]

BILLING CODE P